DEPARTMENT OF HOMELAND SECURITY

Transportation Security Administration

[Docket No. TSA-2018-0001]

Surface Transportation Security Advisory Committee (STSAC) Meeting

AGENCY: Transportation Security Administration, DHS.

ACTION: Committee management; notice of Federal Advisory Committee public meeting.

SUMMARY: The Transportation Security Administration (TSA) will hold a public meeting of the Surface Transportation Security Advisory Committee (STSAC) on November 18, 2021. The meeting agenda and information on public participation is provided below under SUPPLEMENTARY INFORMATION. In light of the current COVID-19 public health crisis, the public meeting will be virtual.

DATES: The meeting will take place on Thursday, November 18, 2021. The meeting will begin at 1:00 p.m. and will adjourn at 4:00 p.m. Eastern Standard Time. As listed in the section below, requests to attend the meeting, to address the STSAC, and/or for accommodations because of a disability must be received by November 8, 2021.

ADDRESSES: The meeting will be held virtually by teleconference. See the Public Participation section below for information on how to register to attend the meeting. Attendance information will be provided upon registration.

FOR FURTHER INFORMATION CONTACT: Judith Harroun-Lord, Surface Transportation Security Advisory Committee, Designated Federal Officer, U.S. Department of Homeland Security, Transportation Security Administration, 6595 Springfield Center Drive, Springfield, Virginia 20598, STSAC@tsa.dhs.gov, 571-227-2283.

SUPPLEMENTARY INFORMATION:

I. Background

TSA is providing notice of this meeting in accordance with the section 404 of the TSA Modernization Act, Division K of the FAA Reauthorization Act of 2018, Public Law 115-254 (132 Stat. 3186; Oct. 5, 2018), as codified at 6 U.S.C. 204. The STSAC provides advice and industry perspective to the Administrator of TSA on surface transportation security matters, including the development, refinement, and implementation of policies, programs, rulemaking, and security directives pertaining to aviation security. While the STSAC is exempt from the Federal Advisory Committee Act (5 U.S.C. App.), see 6 U.S.C. 205(f), paragraph 204(c)(6)(B) requires that TSA hold at least one public meeting each year.

II. Meeting Agenda

The Committee will meet to discuss the following agenda items:

• Welcoming Remarks/Introductions

• Committee and Subcommittee briefings on activities, key issues, and focus areas for FY 2021—Cybersecurity Information Sharing; Emergency Management and Resiliency; Insider Threat; and Security Risk and Intelligence

• Public Comments

• Closing Comments and Adjournment

III. Public Participation

The meeting will be open to the public and attendance may be limited due to telephonic meeting constraints. Members of the public, all non-STSAC members, and non-TSA staff who wish to attend are asked to register via email by submitting their name, contact number, and affiliation to STSAC@tsa.dhs.gov by November 8, 2021. Attendees will be admitted on a first-to-register basis. Attendance information will be provided upon registration.

In addition, members of the public must make advance arrangements by November 8, 2021, to present oral or written statements. The statements must specifically address issues pertaining to the items listed above in the discussion of the Meeting Agenda; requests must be submitted, via email to: STSAC@tsa.dhs.gov. The public comment period will begin at approximately 3:25 p.m. and will end at 3:40 p.m. Speakers are requested to limit their comments to three minutes.

The STSAC and TSA are committed to providing equal access to this virtual meeting for all participants. If you need alternative formats or services because of a disability, please contact the person listed in the FOR FURTHER INFORMATION CONTACT section by November 8, 2021.

Dated: October 26, 2021.
Eddie D. Mayenschein,
Assistant Administrator, Policy, Plans, and Engagement (PPE).

[FR Doc. 2021-23668 Filed 10-29-21; 8:45 am]

BILLING CODE 9110-05-P